DEPARTMENT OF TRANSPORTATION

Federal Aviation Administration

14 CFR Part 73

[Docket No. FAA-2018-0728; Airspace Docket No. 18-ASO-2]

RIN 2120-AA66

Amendment of Multiple Restricted Area Boundary Descriptions; Florida

AGENCY: Federal Aviation Administration (FAA), DOT.

ACTION: Final rule; technical amendment.

SUMMARY: This action makes minor adjustments to the boundary descriptions of restricted areas R-2905A and R-2905B, Tyndall AFB, FL; R-2914B, and R-2919B, Valparaiso, FL; R-2915A and R-2915C, Eglin AFB, FL. The changes are needed because the FAA has adopted updated digital data that more precisely define maritime limits and other geophysical features used in the boundary descriptions. This requires minor changes to certain latitude/longitude points in the boundary descriptions of the above restricted areas in order to match the updated data and ensure accurate boundary depiction on aeronautical charts.

DATES: Effective date: 0901 UTC, November 8, 2018.

FOR FURTHER INFORMATION CONTACT: Paul Gallant, Airspace Policy Group, AJV-11, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it supports updating certain boundary coordinates for restricted areas Tyndall AFB, FL, Valparaiso, FL, and, Eglin AFB, FL.

Background

Some restricted area boundary descriptions use maritime limits, such as references to the shoreline of the U.S., to identify the shape of the area (e.g., “3 nautical miles from and parallel to the shoreline”). These boundary descriptions contain latitude/longitude coordinates that were intended to intersect a line running 3 NM from, and parallel to, the shoreline. In other cases, boundaries are defined with reference to geophysical features such as a railroad track or highway.

For a variety of reasons, maritime limits change over time. The FAA has received updated digital data for maritime limits from the National Oceanic and Atmospheric Administration (NOAA). Digital data are more precise than measurements used in the past. The FAA, through the implementation of its data-driven charting process, was able to utilize this new data to accurately update the U.S. maritime limit boundaries used for aeronautical charting. Prior to the update, the maritime limit boundary data used for charting were over 25 years old. In applying the updated data, FAA found that some restricted area boundary descriptions that were based on the maritime limits, did not correspond to the updated shoreline data. Consequently, there are minor mismatches between some restricted area latitude/longitude coordinates and the actual shoreline position. Similarly, more accurate digital data is available for railroads and highways and the FAA is applying that information as well.

This rulemaking action updates the affected boundary coordinates of restricted areas R-2905A, R-2905B, R-2914B, R-2915C, and R-2919B, in Florida to ensure that the published boundaries match the actual relation to the U.S. shoreline, and maintain aeronautical chart accuracy. R-2915A is amended to reflect digital positional data for the L and N Railroad and the Navarre-Milton Highway, which form part of that restricted area's boundary.

The Rule

This action amends Title 14 Code of Federal Regulations (14 CFR) part 73 by making minor updates to certain latitude/longitude coordinates in the descriptions of restricted areas R-2905A, R-2905B, R-2914B, R-2915A, R-2915C, and R-2919B, in Florida. The changes are needed because the FAA has adopted the use of digital data for aeronautical charting. This more precise digital plotting of points revealed minor mismatches between some current restricted area boundary coordinates and the updated digital data for those points. The specific restricted area boundary updates are shown below:

R-2905A: The point “lat. 29°56′01″ N, long. 85°33′00″ W” is amended to “lat. 29°56′06″ N, long. 85°32′57″ W.” The point “lat. 29°59′01″ N, long. 85°36′30″ W” is amended to “lat. 29°59′05″ N, long. 85°36′24″ W.” These changes reflect updated digital shoreline data.

R-2905B: The point “lat. 29°54′01″ N, long. 85°27′00″ W” is amended to “lat. 29°54′09″ N, long. 85°27′00″ W.” The point “lat. 29°56′01″ N, long. 85°33′00″ W” is amended to “lat. 29°56′06″ N, long. 85°32′57″ W.” These changes reflect updated digital shoreline data.

R-2914B: The point “lat. 30°11′01″ N, long. 85°56′00″ W” is amended to “lat. 30°11′08″ N, long. 85°56′00″W.” The point “lat. 30°15′01″ N, long. 86°06′15″ W” is amended to “lat. 30°15′18″ N, long. 86°06′19″ W.” These changes reflect updated digital shoreline data.

R-2915A: The point “lat. 30°33′41″ N, long. 86°55′00″ W” is amended to “lat. 30°33′30″ N, long. 86°55′00″ W.” The point “lat. 30°38′46″ N, long. 86°55′00″ W” is amended to “lat. 30°38′52″ N, long. 86°55′00″ W.” The point “lat. 32°42′46″ N, long. 86°45′45″ W” is amended to “lat. 30°42′46″ N, long. 86°45′23″ W.” The point “lat. 30°26′31″ N, long. 86°52′20″ W” is amended to “lat. 30°26′31″ N, long. 86°52′00″ W.” These amended points are based on digital data for the L and N Railroad and the Navarre-Milton Highway.

R-2915C: The point “lat. 30°20′51″ N, long. 86°38′50″ W” is amended to “lat. 30°20′47″ N, long. 86°38′51″ W.” The point “lat. 30°19′31″ N, long. 86°51′30″ W” is amended to “lat. 30°19′45″ N, long. 86°51′30″ W.” These changes reflect updated digital shoreline data.

R-2919B: The point “lat. 30°15′01″ N, long. 86°06′15″ W” is amended to “lat. 30°15′18″ N, long. 86°06′19″ W.” The point “lat. 30°19′46″ N, long. 86°23′45″ W” is amended to “lat. 30°19′41″ N, long. 86°23′46″ W.” These changes reflect updated digital shoreline data.

These minor editorial changes update existing restricted area boundaries with more precise digital information. It does not affect the location, designated altitudes, or activities conducted within the restricted areas; therefore, notice and public procedure under 5 U.S.C. 553(b) are unnecessary.

Regulatory Notices and Analyses

The FAA has determined that this action only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of making minor adjustments to the boundary descriptions of restricted areas R-2905A and R-2905B, Tyndall AFB, FL; R-2914B, Valparaiso, FL; R-2915A and R-2915C, Eglin AFB, FL; and R-2919B, Valparaiso, FL qualifies for categorical exclusion under the National Environmental Policy Act and its implementing regulations at 40 CFR part 1500, and in accordance with FAA Order 1050.1F, Environmental Impacts: Policies and Procedures, paragraph 5-6.5.d, Modification of the technical description of special use airspace (SUA) that does not alter the dimension, altitudes, or times of designation of the airspace. This airspace action makes minor updates to certain boundary coordinates of restricted areas R-2905A and R-2905B, Tyndall AFB, FL; R-2914B, Valparaiso, FL; R-2915C, Eglin AFB, FL; and R-2919B, Valparaiso, FL, to match the more precise digital shoreline data received from the National Oceanic and Atmospheric Administration (NOAA). This ensures that the affected boundaries continue to match the NOAA-defined position of the U.S. shoreline, and more accurate digital data for geophysical references. It does not alter the location, altitudes, or activities conducted within the airspace; therefore, it is not expected to cause any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(f), 106(g), 40103, 40113, 40120; E.O. 10854, 24 FR 9565, 3 CFR, 1959-1963 Comp., p. 389.

§ 73.29 [Amended]

2. Section 73.29 is amended as follows:

* * * * *

R-2905A Tyndall AFB, FL [Amended]

By removing the current boundaries and adding in its place the following:

Boundaries. Beginning at lat. 30°01′31″ N, long. 85°32′30″ W; to lat. 30°01′16″ N, long. 85°30′00″ W; to lat. 29°56′06″ N, long. 85°32′57″ W; thence 3 nautical miles from and parallel to the shoreline to lat. 29°59′05″ N, long. 85°36′24″ W; to the point of beginning.

R-2905B Tyndall AFB, FL [Amended]

By removing the current boundaries and adding in its place the following:

Boundaries. Beginning at lat. 30°01′16″ N, long. 85°30′00″ W; to lat. 30°01′01″ N, long. 85°27′00″ W; to lat. 29°54′09″ N, long. 85°27′00″ W; thence 3 nautical miles from and parallel to the shoreline to lat. 29°56′06″ N, long. 85°32′57″ W; to the point of beginning.

R-2914B Valparaiso, FL [Amended]

By removing the current boundaries and adding in its place the following:

Boundaries. Beginning at lat. 30°22′01″ N, long. 86°08′00″ W; to lat. 30°19′16″ N, long. 85°56′00″ W; to lat. 30°11′08″ N, long. 85°56′00″ W; thence 3 nautical miles from and parallel to the shoreline to lat. 30°15′18″ N, long. 86°06′19″ W; to the point of beginning.

R-2915A Eglin AFB, FL [Amended]

By removing the current boundaries and adding in its place the following:

Boundaries. Beginning at lat. 30°33′30″ N, long. 86°55′00″ W; to lat. 30°38′52″ N, long. 86°55′00″ W; thence along the L and N Railroad to lat. 30°42′46″ N, long. 86°45′23″ W; to lat. 30°42′51″ N, long. 86°38′02″ W; to lat. 30°29′02″ N, long. 86°38′02″ W; to lat. 30°26′31″ N, long. 86°51′30″ W; to lat. 30°26′31″ N, long. 86°52′00″ W; thence along the Navarre-Milton Highway to the point of beginning.

R-2915C Eglin AFB, FL [Amended]

By removing the current boundaries and adding in its place the following:

Boundaries. Beginning at lat. 30°22′47″ N, long. 86°51′30″ W; thence along the shoreline to lat. 30°23′46″ N, long. 86°38′15″ W; to lat. 30°20′47″ N, long. 86°38′51″ W; thence 3 nautical miles from and parallel to the shoreline to lat. 30°19′45″ N, long. 86°51′30″ W; to the point of beginning.

R-2919B Valparaiso, FL [Amended]

By removing the current boundaries and adding in its place the following:

Boundaries. Beginning at lat. 30°25′01″ N, long. 86°22′26″ W; to lat. 30°22′01″ N, long. 86°08′00″ W; to lat. 30°15′18″ N, long. 86°06′19″ W; thence 3 NM from and parallel to the shoreline to lat. 30°19′41″ N, long. 86°23′46″ W; to the point of beginning.

Issued in Washington, DC, on August 13, 2018.
Rodger A. Dean, Jr.,
Manager, Airspace Policy Group.

[FR Doc. 2018-17766 Filed 8-16-18; 8:45 am]

BILLING CODE 4910-13-P